DEPARTMENT OF COMMERCE

National Oceanic and Atmospheric Administration

Science Advisory Board; Meeting

AGENCY: Office of Oceanic and Atmospheric Research, NOAA, DOC.

ACTION: Notice of open meeting.

SUMMARY: The Science Advisory Board (SAB) was established by a Decision Memorandum dated September 25, 1997, and is the only Federal Advisory Committee with responsibility to advise the Under Secretary of Commerce for Oceans and Atmospheric on long- and short-range strategies for research, education, and application of science to resource management. SAB activities and advice provide necessary input to ensure that National Oceanic and Atmospheric Administration (NOAA) science programs are of the highest quality and provide optimal support to resource management.

Time and Date: The meeting will be held Tuesday, March 19, 2002, from 1:30 p.m. to 5:15 p.m.; Wednesday, March 20, 2002, from 8 a.m. to 5:15 p.m.; and Thursday, March 21, from 8 a.m. to 12 p.m.

Place: The meeting will be held all three days at the St. Gregory Hotel & Suites, 2033 M Street, NW, Washington, DC.

Status: The meeting will be open to public participation with two 30-minute time periods set aside for direct verbal comments or questions from the public. The SAB expects that public statements presented at its meetings will not be repetitive of previously submitted verbal or written statements. In general, each individual or group making a verbal presentation will be limited to a total time of five (5) minutes. Written comments (at least 35 copies) should be received in the SAB Executive Director's Office by March 11, 2002, to provide sufficient time for SAB review. Written comments received by the SAB Executive Director after March 11, 2002, will be distributed to the SAB, but may not be reviewed prior to the meeting date. Approximately thirty (30) seats will be available for the public including five (5) seats reserved for the media. Seats will be available on a first-come, first-served basis.

Matters To Be Considered: The meeting will include the following topics: (1) The NOAA program review, (2) NOAA education partnership programs, (3) homeland security, (4) NOAA climate research, (5) National Weather Service requirements setting process, (6) reports on program and laboratory reviews conducted under the auspices of the SAB and (7) public statements.

FOR FURTHER INFORMATION CONTACT: Dr. Michael Uhart, Executive Director, Science Advisory Board, NOAA, Rm. 10600, 1315 East-West Highway, Silver Spring, Maryland 20910. (Phone: 301-713-9121, Fax: 301-713-0163, E-mail: Michael.Uhart@noaa.gov); or visit the NOAA SAB website at http://www.sab.noaa.gov.

Dated: February 26, 2002.
Louisa Koch,
Deputy Assistant Administrator, OAR.

[FR Doc. 02-4933 Filed 2-28-02; 8:45 am]

BILLING CODE 3510-KD-M